DEPARTMENT OF JUSTICE

Notice of Lodging of Consent Decree Under the Comprehensive Environmental Response, Compensation, and Liability Act

In accordance with 28 CFR 50.7 and section 122 of the Comprehensive Environmental Response, Compensation, and Liability Act (“CERCLA”), 42 U.S.C. 9622, the Department of Justice hereby gives notice that on December 13, 2001, a proposed consent decree in the consolidated actions United States v. International Paper Co., et al., Civil Action No. 01-C-693-C and International Paper Co. v. City of Tomah, WI, et al., Civil Action No. 00-C-539-C was lodged with the United States District Court for the Western District of Wisconsin.

In this action, the United States, under CERCLA Section 107, seeks reimbursement from International Paper and the City of Tomah, Wisconsin of response costs incurred and to be incurred for response actions taken at or in connection with the release or threatened release of hazardous substances at the Tomah Municipal Sanitary Landfill site in Monroe County, Wisconsin (“the Site”).

In the consolidated action, International Paper Co., under CERCLA Section 113(f), seeks reimbursement from the City of Tomah, Wisconsin and the United States Department of Veterans Affairs of certain costs International Paper allegedly incurred in response to the release or threatened release of hazardous substances at the site.

The consent decree provides that: (1) International Paper shall complete the remedial action for Operable Unit 1 at the Site, commenced pursuant to a CERCLA Section 106, 42 U.S.C. 9606, unilateral administrative order issued by the U.S. Environmental Protection Agency (“U.S. EPA”) to International Paper; (2) the City of Tomah shall pay $16,000 to the United States in reimbursement of the United States' past costs at the Site; and (3) the United States, on behalf of the Department of Veteran Affairs, shall pay $893,651.57 to International Paper to “cash out” the United States’ liability for past and future costs at Operable Unit 1.

The Department of Justice will receive for a period of thirty (30) days from the date of this publication comments relating to the consent decree. Comments should be addressed to the Assistant Attorney General, Environment and Natural Resources Division, P.O. Box 7611, U.S. Department of Justice, Washington, DC 20044-7611, and should refer to United States v. International Paper Co., et al., D.J. Ref. 90-11-2-1317.

The Consent Decree may be examined at the Office of the United States Attorney, 600 West Washington, Ave., Ste. 200, Madison, WI 53701-1585, and at U.S. EPA Region 5, 77 West Jackson Boulevard, Chicago, IL 60604 (contact Timothy Thurlow at (312) 886-6623). A copy of the consent decree may also be obtained by mail from the Consent Decree Library, P.O. Box 7611, U.S. Department of Justice, Washington, DC 20044-7611. In requesting a copy, please enclose a check in the amount of $24.50 (25 cents per page reproduction cost) payable to the Consent Decree Library.

William Brighton,
Assistant Chief, Environmental Enforcement Section, Environment and Natural Resources Division.

[FR Doc. 01-31780 Filed 12-26-01; 8:45 am]

BILLING CODE 4410-15-M